SMALL BUSINESS ADMINISTRATION

[Disaster Declaration #12123 and #12124]

New York Disaster Number NY-00089

AGENCY: U.S. Small Business Administration.

ACTION: Amendment 1.

SUMMARY: This is an amendment of the Presidential declaration of a major disaster for Public Assistance Only for the State of New York (FEMA-1899-DR), dated 04/16/2010.

Incident: Severe Storms and Flooding.

Incident Period: 03/13/2010 Through 03/31/2010.

DATES: Effective Date: 07/09/2010.

Physical Loan Application Deadline Date: 06/15/2010.

Economic Injury (EIDL) Loan Application Deadline Date: 01/18/2011.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of New York, dated 04/16/2010, is hereby amended to re-establish the incident period for this disaster as beginning 03/13/2010 and continuing through 03/31/2010 .

All other information in the original declaration remains unchanged.

(Catalog of Federal Domestic Assistance Numbers 59002 and 59008)

James E. Rivera,
Associate Administrator for Disaster Assistance.

[FR Doc. 2010-17393 Filed 7-15-10; 8:45 am]

BILLING CODE 8025-01-P